DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

San Diego Trolley Incorporated

[Waiver Petition Docket Number FRA-2000-7137]

The San Diego Trolley Incorporated (SDTI) seeks a 5-year extension of its current waiver of compliance from certain provisions of 49 CFR for certain portions of its light-rail transit operations, employing temporal separation in order to safely share track with the general railroad system's San Diego and Imperial Valley Railroad (SDIV). SDTI seeks relief from certain requirements of 49 CFR part 217, Railroad Operating Rules (except for § 217.9(d)); Part 218, Railroad Operating Practices (§ 218.27(a)); Part 219, Control of Drug and Alcohol Abuse; Part 220, Railroad Communications; Part 221, Rear End Marking Device Passenger, Commuter and Freight Trains; Part 223, Safety Glazing Standards-Locomotives, Passenger Cars, and Cabooses (§§ 223.99(c), 223.17, 223.15(c)); Part 225, Accident Reporting and Investigation; Part 229, Railroad Locomotive Safety Standards (§§ 229.46-229.59, 229.61, 229.65, 229.71, 229.77, 229.125, 229.135); Part 231, Railroad Safety Appliance Standards (§ 231.14); Part 238, Passenger Equipment Safety Standards (§§ 238.1135, 238.114, 238.115, 238.203, 238.205, 238.207, 238.211, 238.213, 238.15, 238.17, 238.19, 238.231, 238.233, 238.235, 238.237, Subpart D (§§ 238.301-238.319)); Part 239, Passenger Train Emergency Preparedness; and Part 240, Locomotive Engineer Certification.

SDTI submits that this request is consistent with the waiver process for shared use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000). SDTI received its initial waiver and permission from FRA in January 2001. In August 2004, SDTI received permission from FRA to modify the terms and conditions of the original 2001 waiver to include limited joint nighttime operations on the light-rail Blue Line with westbound SDIV freight trains. SDTI was granted a 5-year extension of the terms and conditions of the original waiver, with modifications approved in 2004 and 2006. SDTI states in this waiver renewal that nothing has changed since the 2006 decision letter was rendered by FRA.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7137) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on February 9, 2011.
Robert C. Lauby,
Deputy Associate Administrator for Regulatory and Legislative Operations.

[FR Doc. 2011-3292 Filed 2-14-11; 8:45 am]

BILLING CODE 4910-06-P